DEPARTMENT OF THE INTERIOR

Bureau of Land Management

[LLNV912000. L12200000.PM0000 LXSS006F0000 261A; 14-1109; MO# 4500093084]

Notice of Public Meetings: Sierra Front-Northwestern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Sierra Front-Northwestern Great Basin Resource Advisory Council (RAC), will hold two meetings in Nevada, in 2016. The meetings are open to the public.

Dates and Times: June 2 and 3 at the BLM Winnemucca, Nevada District. A meeting will be held on Thursday, June 2, at the Winnemucca BLM District Office (5100 East Winnemucca Blvd.) in Winnemucca, Nevada. A field trip will be held on Friday, June 3 within the Winnemucca BLM District. The second meeting will be held August 11 and 12, at the BLM Carson City, Nevada District. A meeting will be held on Thursday, August 11, at the Carson City BLM District Office (5665 Morgan Mill Road) in Carson City, Nevada. A field trip will be held on Friday, August 12 within the Carson City BLM District. Approximate meeting times are 8 a.m. to 4 p.m. However, meetings could end earlier if discussions and presentations conclude before 4 p.m. The meetings will include a public comment period at approximately 8:30 a.m. and approximately 4:00 p.m.

FOR FURTHER INFORMATION CONTACT: Lisa Ross, Public Affairs Specialist, Carson City District Office, 5665 Morgan Mill Road, Carson City, NV 89701, telephone: (775) 885-6107, email: lross@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at the meeting will include, but are not limited to:

• June 2 & 3—landscape vegetative management, rangeland health assessments, Fire Invasive Assessment Tool (FIAT), sage grouse, drought, and fire restoration. Managers' reports of district office activities will be distributed at each meeting.

• August 11 & 12—Sage Grouse, Wild Horse & Burro, Land Health projects, Managers' report of district office activities will be distributed at each meeting.

The Council may raise other topics at the meetings.

Final agendas will be posted on-line at the BLM Sierra Front-Northwestern Great Basin RAC Web site at http://www.blm.gov/nv/st/en/res/resource_advisory.html and will be published in local and regional media sources at least 14 days before each meeting.

Individuals who need special assistance such as sign language interpretation or other reasonable accommodations, or who wish to receive a copy of each agenda, may contact Lisa Ross no later than 10 days prior to each meeting.

Steve Clutter,
Chief, Office of Communications.

[FR Doc. 2016-11572 Filed 5-16-16; 8:45 am]

BILLING CODE 4310-HC-P